DEPARTMENT OF HEALTH AND HUMAN SERVICES

National Institutes of Health

Clinical Center; Amended Notice of Meeting

Notice is hereby given of a change in the meeting of The Board of Scientific Counselors of the Warren Grant Magnuson Clinical Center, June 9, 2003, 8 a.m. to June 10, 2003, 5 p.m., National Institutes of Health, Building 10, 10 Center Drive, Medical Board Room 2C116, Bethesda, MD 20892 which was published in the Federal Register on May 6, 2003, 66 87 24010.

The meeting will be closed in accordance with the provisions set forth is section 552b(c)(6), Title 5 U.S.C. as amended for review, discussion, and evaluation of individual intramural programs and projects conducted by the Clinical Center. The meeting is closed to the public.

Dated: May 12, 2003.
LaVerne Y. Stringfield,
Director, Office of Federal Advisory Committee Policy.

[FR Doc. 03-12273 Filed 5-15-03; 8:45 am]

BILLING CODE 4140-01-M